DEPARTMENT OF HOMELAND SECURITY

Transportation Security Administration

Intent To Request Approval From OMB of One Current Public Collection of Information: Screening Partnership Program (SPP)

AGENCY: Transportation Security Administration, DHS.

ACTION: 60-Day notice.

SUMMARY: The Transportation Security Administration (TSA) invites public comment on one currently approved Information Collection Request (ICR), Office of Management and Budget (OMB) control number 1652-0064, abstracted below that we will submit to OMB for an extension in compliance with the Paperwork Reduction Act (PRA). The ICR describes the nature of the information collection and its expected burden. The collection involves an application completed by airports desiring to opt-out of passenger and baggage security screening performed by federal employees, preferring a qualified private screening company to perform security screening functions under a contract entered into with TSA.

DATES: Send your comments by February 12, 2018.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (EO) 13771, Reducing Regulation and Controlling Regulatory Costs, and EO 13777, Enforcing the Regulatory Reform Agenda, TSA is also requesting comments on the extent to which this request for information could be modified to reduce the burden on respondents.

Information Collection Requirement

OMB Control Number 1652-0064; Screening Partnership Program (SPP). TSA's SPP (codified as amended at 49 U.S.C. 44920) ¹ enables commercial airports to apply for a qualified private screening company, under contract with TSA, to provide passenger and baggage security screening services, rather than Federal employees. An authorized representative of the airport or airport owner submits a copy of the SPP application to the airport's TSA Federal Security Director (FSD) to begin the application process.

¹ The Aviation and Transportation Security Act (ATSA), Public Law 107-71, sec. 108 (115 Stat. 597, 611, Nov. 19, 2001).

Purpose and Description of Data Collection

The application process is the initial notification to TSA of an airport's desire to opt-out of the security screening provided by TSA Federal employees. The SPP application collects the following from each airport seeking to participate in SPP:

• Basic airport information: Airport name, FAA identifier, and airport operating authority.

• Authorized Requestor information: Name, position, primary and alternate phone number, mailing address and email address.

• An indication of whether or not the airport authority desires to provide its own private security screening services.

• A recommendation on which private screening company should perform the screening function and the basis for the recommendation.

• Information on any major activities scheduled to occur at the airport within the next 18 months that could impact the transition from Federal screening to private screening (for example, major construction).

• Optional information may be provided to support the consideration of their application.

Use of the Information

TSA will acknowledge receipt of the application, review for completeness, and provide an official response within 120 days from the date of acknowledgement. The application contains no personally identifiable information, sensitive security information, or classified information, so no special handling or protection is required.

TSA currently has a screening presence at approximately 450 airports, of which 22 airports are participating in SPP, an increase from the 18 airports that participated in 2014. The annual burden for the information collection related to SPP is estimated to be 30 minutes (0.5 hours). While TSA estimates that only two airports will respond annually, it is presumed that ten or more airports could respond. The agency estimates that each respondent airport will spend approximately one-quarter (.25) hour to complete the application for a total burden of one-half hour (0.50 hours). TSA does not require the airports to maintain records of the application submission. However, if the airport chooses to do so, the burden associated with this action is anticipated to be minimal.

Dated: December 7, 2017.
Christina A. Walsh,
TSA Paperwork Reduction Act Officer, Office of Information Technology.

[FR Doc. 2017-26865 Filed 12-12-17; 8:45 am]

BILLING CODE 9110-05-P